DEPARTMENT OF STATE

[Public Notice 5997]

Notice of Availability of the Draft Environmental Assessment for the Proposed Enbridge Southern Lights Pipeline Project

AGENCY: Department of State.

ACTION: Notice.

A draft Environmental Assessment (EA) for the Proposed Enbridge Southern Lights Pipeline Project has been prepared on behalf of the Department of State by Enbridge Pipelines (Southern Lights) LLC (“EPSL”). On April 9, 2007, The Department of State received an application from EPSL for a Presidential permit, pursuant to Executive Order 13337 of April 30, 2004, as amended, to construct, connect, operate, and maintain facilities (including a 20-inch diameter crude oil and liquid hydrocarbon pipeline) at the U.S.-Canadian border at Neche, Pembina County, North Dakota, for the purpose of transporting liquid hydrocarbons and other petroleum products between the United States and Canada. EPSL has stated that it seeks this authorization in connection with its Southern Lights Pipeline Project (“LSr Project”), which is designed to transport Canadian crude oil from the Western Canadian Sedimentary Basin (“WCSB”) to existing refinery markets in the Midwest region of the United States.

The Secretary of State is designated and empowered to receive all applications for Presidential permits, as referred to in Executive Order 13337, as amended, for the construction, connection, operation, or maintenance, at the borders of the United States, of facilities for the exportation or importation of petroleum, petroleum products, coal, or other fuels to or from a foreign country.

SUPPLEMENTARY INFORMATION: On July 27, 2007, the Department of State published in the Federal Register a Notification of Receipt and intent to prepare an Environment Assessment (EA). [** public comments were received in connection with that notice.] In accordance with Section 102(C) of the National Environmental Policy Act of 1969 (NEPA) (42 U.S.C. 4332(C)) and implementing regulations promulgated by the Council on Environmental Quality (40 CFR parts 1500-1508) and the Department of State (22 CFR part 161), including in particular 22 CFR 161.7(c)(1), a draft environmental assessment (EA) was prepared by EPSL on behalf of the Department of State to determine if there are any potential significant impacts and to address alternatives to the proposed action.

The U.S. Army Corp. of Engineers was a Federal cooperating agency for the development of this EA. Cooperating agencies either have jurisdiction by law or special expertise with respect to the environmental impacts assessed in connection with the proposal and are involved in the Department's analysis of those environmental impacts.

The draft EA addresses the potential environmental effects of the construction and operation of the United States portion of the Southern Lights Pipeline Project. EPSL is a limited liability company, organized under the laws of the State of Delaware. EPSL is a wholly-owned subsidiary of Enbridge Energy Company, Inc., a Delaware corporation, and an indirectly-owned subsidiary of Enbridge Inc., a corporation organized under the laws of Canada. EPSL's primary U.S. business address is 1100 Louisiana St., Suite 3300, Houston, Texas 7702. According to the description in EPSL's application, the proposed new border crossing would consist of approximately forty (40) feet of pipeline on each side of the international boundary, which would be buried to a minimum depth of three (3) feet below ground level; the border crossing would be part of the LSr Project, which would consist in the U.S. of 136 miles of 20-inch diameter pipeline from the U.S.-Canadian border at Pembina County, North Dakota, to the existing Enbridge Clearbrook tank farm and terminal facilities in Clearwater County, Minnesota.

Comment Procedures: Any person wishing to comment on the draft EA may do so. To ensure consideration of comments prior to a Department of State decision on the application, it is important that we receive your comments by no later than December 28, 2007. Options for submitting comments on the Draft EA are as follows:

• By mail to: Jeff Izzo, U.S. Department of State, EEB/ESC Room 4843, Washington, DC 20520. Please note that Department of State mail can be delayed due to security screening.

• Fax to: (202) 647-4037, attention Jeff Izzo.

• E-mail to: izzojr@state.gov.

After comments are reviewed, significant new issues (if any) are investigated, and modifications (if any) are made to the draft EA, a final EA will be made available by the Department of State, along with a Finding of No Significant Impact (FONSI), if such a determination is made. The final EA will contain the Department's response to timely comments received on the draft EA.

FOR FURTHER INFORMATION CONTACT: For information on the proposed project or a CD-ROM copy of the draft EA contact Jeff Izzo, EEB/ESC Room 4843, U.S. Department of State, Washington, DC 20520, or by telephone (202) 647-1291, or by fax at (202) 647-4037.

Matthew T. McManus,
Acting Director, International Energy and Commodity Policy, Department of State.

[FR Doc. E7-23135 Filed 11-27-07; 8:45 am]

BILLING CODE 4710-07-P